DEPARTMENT OF THE TREASURY

Submission for OMB Review; Comment Request

AGENCY: Department of the Treasury.

ACTION: Notice.

SUMMARY: The Department of the Treasury will submit the following information collection requests to the Office of Management and Budget (OMB) for review and clearance in accordance with the Paperwork Reduction Act of 1995, Public Law 104-13, on or after the date of publication of this notice.

DATES: Comments should be received on or before October 30, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov or viewing the entire information collection request at www.reginfo.gov.

SUPPLEMENTARY INFORMATION:

Bureau of the Fiscal Service (FS)

OMB Number: 1530-0002.

Type of Review: Extension without change of a currently approved collection.

Title: Trace Request for EFT Payments.

Form: FS Form 150-1, 150-2.

Abstract: The form is used to notify the financial institutions that a beneficiary has claimed non-receipt of credit for a payment. The form is designed to help the financial institution locate any problem and to keep the beneficiary informed of any action taken.

Affected Public: Private Sector: Businesses or other for-profits.

Estimated Annual Burden Hours: 27,162.

OMB Number: 1530-0012.

Type of Review: Extension without change of a currently approved collection.

Title: Voucher for Payment of Awards.

Form: FS Form 5135.

Abstract: Awards certified to Treasury are paid annually as funds are received from foreign governments. Vouchers are mailed to award holders showing payments due. Award holders sign vouchers certifying that he/she is entitled to payment.

Affected Public: Individuals or Households.

Estimated Annual Burden Hours: 700.

OMB Number: 1530-0027.

Type of Review: Extension without change of a currently approved collection.

Title: Creditor's Request for Payment of Treasury Securities Belonging to a Decedent's Estate Being Settled Without Administration.

Form: FS Form 1050.

Abstract: Used to obtain creditors consent to dispose of securities of a deceased owner's estate without administration.

Affected Public: Private Sector: Businesses or other for-profits.

Estimated Annual Burden Hours: 150.

OMB Number: 1530-0052.

Type of Review: Extension without change of a currently approved collection.

Title: Application for Issue of United States Mortgage Guaranty Insurance Company Tax and Loss Bonds.

Form: FS Form 3871.

Abstract: Submitted by companies engaged in the business of writing mortgage guaranty insurance for purpose of purchasing “Tax and Loss” bonds.

Affected Public: Private Sector: Businesses or other for-profits.

Estimated Annual Burden Hours: 8.

OMB Number: 1530-0055.

Type of Review: Extension without change of a currently approved collection.

Title: Disposition of Securities Belonging to a Decedent's Estate Being Settled Without Administration.

Form: FS Form 5336.

Abstract: Used by person(s) entitled to a decedent's estate not being administered to request disposition of securities and/or related payments.

Affected Public: Individuals or Households.

Estimated Annual Burden Hours: 12,675.

Dated: September 25, 2015.
Dawn D. Wolfgang,
Treasury PRA Clearance Officer.

[FR Doc. 2015-24749 Filed 9-29-15; 8:45 am]

BILLING CODE 4810-AS-P